FEDERAL MEDIATION AND CONCILIATION SERVICE

Request for Arbitration Panel

AGENCY: Federal Mediation and Conciliation Service (FMCS).

ACTION: 60-Day notice and request for comments.

SUMMARY: The Federal Mediation and Conciliation Service (FMCS), invites the public and other Federal Agencies to take this opportunity to comment on the following information collection request, Request for Arbitration Panel, FMCS Form R-43. This information collection request will be submitted for approval to the Office of Management Budget (OMB) in compliance with the Paperwork Reduction Act (PRA). The Request for Arbitration Panel, FMCS Form R-43, allows FMCS to comply with its statutory obligation to make governmental facilities available for voluntary arbitration. To carry out this policy, FMCS have issued regulations which provide for the operation and maintenance of a roster of professional arbitrators. The arbitrators are private citizens, not employees of FMCS, and are paid by the parties for hearing and deciding the issues submitted under a collective bargaining agreement and in other circumstances. The Request for Arbitration Panel, FMCS Form R-43, is used by the parties, labor and management individually or jointly, to request that FMCS furnish a list of arbitrators.

DATES: Comments must be submitted on or before July 21, 2025.

ADDRESSES: You may submit comments, identified by the Request for Arbitration Panel, FMCS Form R-43, through one of the following methods:

• Email: register@fmcs.gov;

• Mail: Office of General Counsel, One Independence Square, 250 E St. SW, Washington, DC 20427.

FOR FURTHER INFORMATION CONTACT: Karen Pierce, 202-606-3672, kpierce@fmcs.gov.

SUPPLEMENTARY INFORMATION: Copies of the agency form are available here. Paper copies are available from the Office of Client Services by emailing Karen Pierce at the email address above. Please ask for the Request for Arbitration Panel, FMCS Form R-43.

I. Request for Comments

FMCS solicits comments to:

i. Evaluate whether the proposed collections of information are necessary for the proper performance of the functions of the agency, including whether the information will have practical utility.

ii. Enhance the accuracy of the agency's estimates of the burden of the proposed collection of information.

iii. Enhance the quality, utility, and clarity of the information to be collected.

iv. Minimize the burden of the collections of information on those who are to respond, including the use of appropriate automated, electronic collection technologies or other forms of information technology.

II. Information Collection Request

Agency: Federal Mediation and Conciliation Service.

Title: Request for Arbitration Panel (FMCS Form R-43).

OMB Number: 3076-0016.

Type of Request: Extension without change of a currently approved collection.

Affected Public: Federal government; Private sector, businesses or other for-profits and not-for-profit institutions; and State and local governments.

Frequency: In most instances, this form is completed once a year.

Burden: The total annual burden estimate is that FMCS will receive approximately 10,000 responses per year, one response per year. This form takes about 10 minutes to complete.

Information Collection Requirement:

Purpose and Description of Data Collection

Title II of the Labor Management Relations Act of 1947, 29 U.S.C. 171(b), provides that “the settlement of issues between employers and employees through collective bargaining may advance by making available full and adequate governmental facilities for conciliation, mediation, and voluntary arbitration . . .” Pursuant to the statute and 29 CFR part 1404, FMCS has long maintained a roster of qualified, private sector labor arbitrators to hear disputes arising under collective bargaining agreements and provide fact finding and interest arbitration.

Use of Results

The FMCS uses the information received to facilitate the processing of the parties' request for arbitration assistance.

III. The Official Record

The official records are electronic records.

Dated: May 14, 2025.
Alisa Zimmerman,
Deputy General Counsel.

[FR Doc. 2025-08913 Filed 5-19-25; 8:45 am]

BILLING CODE 6732-01-P